DEPARTMENT OF ENERGY

10 CFR Part 431

[EERE-2022-BT-TP-0019]

RIN 1904-AF08

Energy Conservation Program: Test Procedure for Compressors; Extension of Comment Period

AGENCY: Office of Energy Efficiency and Renewable Energy, Department of Energy.

ACTION: Request for information; extension of public comment period.

SUMMARY: On May 6, 2022, the U.S. Department of Energy (“DOE”) published a request for information (“RFI”) regarding test procedures for compressors. The RFI provided an opportunity for submitting written comments, data, and information by June 6, 2022. DOE received a request from the Compressed Air and Gas Institute on May 23, 2022 requesting an extension of the public comment period for an additional 60 days. DOE has reviewed the request and is granting a 14-day extension of the public comment period to allow comments to be submitted until June 20, 2022.

DATES: The comment period for the RFI published on May 6, 2022 (87 FR 27025) is extended. DOE will accept comments, data, and information regarding the RFI received no later than June 20, 2022.

ADDRESSES: Interested persons are encouraged to submit comments using the Federal eRulemaking Portal at www.regulations.gov, under docket number EERE-2022-BT-TP-0019. Follow the instructions for submitting comments. Alternatively, interested persons may submit comments by email to Compressors2022TP0019@ee.doe.gov. Include docket number EERE-2022-BT-TP-0019 in the subject line of the message. No telefacsimiles (“faxes”) will be accepted.

Although DOE has routinely accepted public comment submissions through a variety of mechanisms, including postal mail and hand delivery/courier, the Department has found it necessary to make temporary modifications to the comment submission process in light of the ongoing coronavirus 2019 (“COVID-19”) pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2022-BT-TP-0019. The docket web page contains instructions on how to access all documents, including public comments, in the docket.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Celia Sher, U.S. Department of Energy, Office of the General Counsel, GC-33, 1000 Independence Avenue SW, Washington, DC 20585-0121. Telephone: (202) 287-6122. Email: celia.sher@hq.doe.gov.

For further information on how to submit a comment or review other public comments and the docket, contact the Appliance and Equipment Standards Program staff at (202) 287-1445 or by email: ApplianceStandardsQuestions@ee.doe.gov.

SUPPLEMENTARY INFORMATION: On May 6, 2022, DOE published an RFI initiating a review to consider whether to amend DOE's test procedure for compressors. In the RFI, DOE identified certain issues associated with the currently applicable test procedure on which DOE is interested in receiving comment. These issues include the scope of coverage, updated industry test procedures and the accuracy, representativeness and cost of existing test requirements. 87 FR 27025. The RFI set a comment period deadline of June 6, 2022.

The Compressed Air and Gas Institute (CAGI) requested a 60-day extension of the public comment period to help investigate the request and respond appropriately with considered comments. (CAGA, EERE-2022-BT-TP-0019, No. 3 at p. 1).

DOE has determined that an extension of the public comment period is appropriate to allow interested parties additional time to submit comments for DOE's consideration. Thus, DOE is extending the comment period by 14 days, until June 20, 2022.

Signing Authority

This document of the Department of Energy was signed on May 31, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 1, 2022.
Treena V. Garrett,
Federal Register Liaison Officer, U.S. Department of Energy.

[FR Doc. 2022-12096 Filed 6-3-22; 8:45 am]

BILLING CODE 6450-01-P